DEPARTMENT OF HEALTH AND HUMAN SERVICES

Agency Information Collection Request; 30-Day Public Comment Request, Grants.gov

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 30 days of this notice directly to the OS OMB Desk Officer. All comments must be faxed to OMB at 202-395-6974.

Proposed Project: SF-424A (Budget Information—Non-Construction Programs) Form—Extension—OMB No. 4040-0006—Grants.Gov.

Abstract: The SF-424A (Budget Information—Non-Construction Programs) form is utilized by up to 26 Federal grant making agencies. The SF-424A provides budget information when applying for non-construction Federal grants. The Federal awarding agencies use information reported on the form for the evaluation of award and general management of Federal assistance program awards. A 2-year clearance is requested. Frequency of the data collection varies by Federal agency.

Estimated Annualized Burden Table
Agency | Number of respondents | Number of responses per respondent | Average burden per response (in hours) | Total burden hours
CNCS | 10 | 1 | 4 | 40
DOI | 258 | 1.28 | 30/60 | 165
DOS | 150 | 1 | 5/60 | 13
EPA | 3,816 | 1 | 4 | 15,264
SSA | 700 | 2 | 30/60 | 700
Treas | 191 | 1.445 | 1 | 276
VA | 184 | 1 | 15/60 | 46
USDA | 6,951 | 1 | 3 | 20,853
DOC | 4,880 | 1 | 20/60 | 1,627
DOT | 50 | 1 | 1.6 | 80
Total | 17,190 |  |  | 39,063

Terry Nicolosi,
Office of the Secretary, Paperwork Reduction Act Reports Clearance Officer.

[FR Doc. E8-10798 Filed 5-13-08; 8:45 am]

BILLING CODE 4151-AE-P